DEPARTMENT OF THE INTERIOR

Bureau of Land Management

[NV-930, 1430-EU; N-76161A]

Notice of Realty Action

AGENCY: Bureau of Land Management, Interior.

ACTION: Notice.

SUMMARY: The below listed public lands in Orovada, Humboldt County, Nevada, have been examined and found suitable for disposal pursuant to sections 203 and 209 of the Federal Land Policy and Management Act (FLPMA) of October 21, 1976 (90 Stat. 2750, 43 U.S.C. 1713 and 1719), and the Federal Land Transaction Facilitation Act of July 25, 2000 (Pub. L. 106-248).

FOR FURTHER INFORMATION CONTACT: M. Lynn Trost, Realty Specialist, at the above address or telephone in Winnemucca at (775) 623-1500.

SUPPLEMENTARY INFORMATION: The following described parcels of land, situated in Humboldt County, Nevada, are being offered for sale as a competitive sale:

Mount Diablo Meridian, Nevada

Parcel A: T. 44 N., R. 37 E., Section 29: N½NE¼, E½NW¼

Containing 160 acres more or less.

Parcel B: T. 43 N., R. 37 E., Section 5: Lots 1, 2, and 3, S½NE¼, N½SE¼, SE¼SE¼

Containing 319.95 acres more or less.

Parcel C: T. 43 N., R. 37 E., Section 4, Lots 3 and 4, S½NW¼

Containing 160.48 acres more or less.

Parcel D: T. 43 N., R. 37 E., Section 4, S½SW¼, SE¼

Containing 240 acres more or less.

Totaling 880.43 acres.

This land is not required for any federal purposes. The sale is consistent with current Bureau planning for this area and would be in the public interest. The subject lands shall be sold for not less than fair market value (FMV) as determined by appraisal. The locatable, salable, and leasable mineral rights will be conveyed simultaneously with the surface estate. The Fort McDermitt Tribe did not respond to Consultation. The disposal would not generate any adverse energy impacts or limit energy production and distribution (EO 13212).

The above described land is hereby classified for disposal in accordance with Executive Order 6910 and the Act of June 28, 1934, as amended. On May 28, 2004, the above described land will be segregated from all other forms of appropriation under the public land laws, including the general mining laws, and leasing under the mineral leasing laws. On May 28, 2004 and until the completion of the sale, the BLM is no longer accepting land use applications affecting any parcel being offered for sale. This segregation will terminate upon issuance of a patent for said parcel or 270 days from the date of this publication, whichever occurs first. At least 60 days prior to the sale, this notice and sale date shall be advertised for three consecutive weeks in the Humboldt Sun Newspaper, published in Winnemucca Nevada.

This sale will be by competitive procedures. Bids shall be not less than the FMV. The appraised fair market value is $175.00 per acre (one hundred and seventy-five dollars and no cents). Each parcel will be offered by sealed bid, followed by an oral auction. The parcels shall be sold individually. The highest qualifying bid for each subject parcel, whether sealed or oral, will be declared the high bid. Bidders can participate at one or both bid process under the following requirements:

Sealed Bid

Sealed bid envelopes must be marked on the lower front left corner with the parcel's identifying letter (A, B, C, or D), and N-76161A. A separate bid for each parcel must be submitted in an individual sealed envelope. Each sealed bid shall be accompanied by a certified check, money order, bank draft, or cashier's check made payable to the Department of the Interior (DOI), Bureau of Land Management (BLM), for not less than 20 percent of the bid amount. Failure to prescribe to the above, shall determine the bid disqualified. In the event a sealed bid for a subject parcel is not designated as the apparent high bid for the same subject parcel, the deposit shall be returned to the bidder.

Oral Auction

Approximately, two hours after the opening of the sealed bids, the oral auction shall be held. The highest qualified sealed bid for each subject parcel will become the starting bid for the same subject parcel in the oral bidding. If no sealed bids are received for a subject parcel, oral bidding on the same subject parcel shall begin at the appraised market value. The apparent high oral bidder for a subject parcel, must submit the required bid deposit immediately following the close of the sale in the form of cash, personal check, bank draft, cashiers check, money order or any combination thereof, made payable to the DOI, BLM for not less than 20 percent of the bid amount.

In the event there are no oral bids for a parcel, and should two or more sealed bid envelopes contain valid bids of the same amount for the same parcel, the determination of which is to be considered the highest bid shall be by supplemental sealed bid.

The remainder of the full bid price, whether sealed or oral, must be paid within 180 calendar days of the sale date. Failure to pay the full price within the 180 days will disqualify the apparent high bidder and cause the entire bid deposit to be forfeited to the BLM.

At least 60 days prior to the sale, detailed information concerning the sale, including the sale procedures, and sale date shall be available at the BLM Winnemucca Field Office, 5100 E. Winnemucca Blvd., Winnemucca NV 89445; on the BLM Winnemucca Field Office Web site at: http://www.nv.blm.gov/winnemucca/, then click on “News”, or by calling M. Lynn Trost, Realty Specialist at (775) 623-1500. Maps delineating the individual sale parcels shall be available for review at the BLM Winnemucca Field Office.

Federal law requires bidders to be U.S. citizens 18 years of age or older; a corporation subject to the laws of any State or of the United States; a State, State instrumentality, or political subdivision authorized to hold property; or an entity including, but not limited to, associations or partnerships capable of holding property or interests therein under the laws of the State of Nevada. Certification of qualification, including citizenship or corporation or partnership, must accompany the bid deposit.

In order to determine the fair market value of the subject public lands through appraisal, certain assumptions have been made of the attributes and limitations of the lands and potential effects of local regulations and policies on potential future land uses. Through publication of this notice, the Bureau of Land Management gives notice that these assumptions may not be endorsed or approved by units of local government. Furthermore, no warranty of any kind shall be given or implied by the United States as to the potential uses of the lands offered for sale, and conveyance of the subject lands will not be on a contingency basis. It is the buyer's responsibility to be aware of all applicable local government policies and regulations that would affect the subject lands.

It is also the buyer's responsibility to be aware of existing or projected use of nearby properties. When conveyed out of federal ownership, the lands will be subject to any applicable reviews and approvals by the respective unit of local government for proposed future uses, and any such reviews and approvals would be the responsibility of the buyer. Any land lacking access from a public road or highway will be conveyed as such, and future access acquisition will be the responsibility of the buyer.

The purchaser/patentee, by accepting a patent, agrees to indemnify, defend, hold harmless from any costs, damages, claims, causes of action, penalties, fines, liabilities, and judgments of any kind or nature arising out of or in connection with the use/or occupancy of the patented real property which has already resulted or does hereafter result in: (1) Violations of Federal, State, and local laws and regulations that are now or may in the future become applicable to the real property; (2) Judgments, claims or demands of any kind assessed against the United States; (3) Costs, expenses, or damages of any kind incurred by the United States; (4) Other releases or threatened releases of solids or hazardous waste(s) and/or hazardous substance(s), as defined by federal or state environmental laws; off, on, into or under land, property and other interests of the United States; (5) Other activities by which solids or hazardous substances or wastes, as defined by federal laws are generated, released or stored, used or otherwise disposed of on the patented real property, and any cleanup response, remedial action or other actions related in any manner to said solid or hazardous substances or wastes; or (6) Natural resource damages as defined by Federal and State law. This covenant shall be construed as running with the patented real property and may be enforced by the United States in a court of competent jurisdiction.

The patent(s), when issued, will contain the following reservation to the United States:

A Right-of-way thereon for ditches and canals constructed by the authority of the United States, under the Act of August 30, 1890 (26 Stat. 391; 43 U.S.C. 945).

And will be subject to:

Parcel A: Those rights for power transmission line purposes which have been granted to Harney Electric Cooperative, Inc., by Right-of-way NEV-058651, under the Act of October 21, 1976 (43 U.S.C. 1761), being 20 feet wide by approximately 1,320 feet long, located in T. 44 N., R. 37 E., Section 29: N½NE¼NW¼.

Those rights for ingress and egress purposes which have been granted to Humboldt County, Nevada, by Right-of-way N-77234, North Valley Road #309, under the act of October 21, 1976 (43 U.S.C. 1761), being 30 feet wide by approximately 1,320 feet long, located in T. 44 N., R. 37 E., Section 29: E½NE¼NE¼, running north-south adjacent to the section line common to Sections 29 and 28.

Those rights for ingress and egress purposes which have been granted to Home Ranch, LLC, by Right-of-way N-77025, under the act of October 21, 1976 (43 U.S.C. 1761), being 32 feet wide by approximately 3,960 feet long, located in T. 44 N., R. 37 E., Section 29: N½N½NE¼, N½NE¼NW¼, running east-west adjacent to the section line common to Sections 29 and 20.

Those rights for a water distribution pond, and associated infrastructures granted to Hans Van der Hoek, by Right-of-way N-77179, under the act of October 21, 1976 (43 U.S.C. 1761), for a pond, pipe line(s) and maintenance area encompassing 280 feet long east-west by 110 feet wide north-south, located in T 44 N, R 37 E, Section 29: SW¼NW¼NE¼; and a road located south and adjacent to the pond being 2,640 feet long east-west and 12 feet wide north-south, located in Section 29: N½NE¼.

Parcel B: Those rights for power transmission line purposes which have been granted to Harney Electric Cooperative, Inc., by Right-of-way NEV-058382, under the Act of October 21, 1976 (43 U.S.C. 1761), being 40 feet wide by approximately 1,320 feet long, located in T. 43 N. R. 37 E., Section 5: S½SE¼SE¼, running east-west adjacent to the section lines common to Sections 5 and 8.

Those rights for ingress and egress purposes which have been granted to Humboldt County, Nevada, by Right-of-way #N-77238, Home Ranch Road #313, under the act of October 21, 1976, (43 U.S.C. 1761), being 60 feet wide by approximately 3,700 feet long, located in T. 43 N., R. 37 E., Section 5: NE¼SE¼, S½NW¼SE¼, SE¼SE¼.

Those rights for ingress and egress purposes which have been granted to Humboldt County, Nevada, by Right-of-way #N-77234, North Valley Road #309, under the act of October 21, 1976, (43 U.S.C. 1761), being 30 feet wide by approximately 5,280 feet long, located in T. 43 N., R. 37 E., Section 5: Lot 1, E½SE¼NE¼, E½SE¼.

Parcel C: Those rights for power transmission line purposes which have been granted to Harney Electric Cooperative, Inc., by Right-of-way NEV-058382, under the Act of October 21, 1976 (43 U.S.C. 1761), being 40 feet wide by approximately 2,640 feet long, located in T. 43 N. R. 37 E., Section 4: Lot 4, W½SW¼NW⅛, running north-south adjacent to the section line common to Sections 4 and 5.

Those rights for a buried cable which have been granted to Oregon Idaho Utilities, Inc., dba Humboldt Telephone Company by Right-of-way N-60463, under the Act of October 21, 1976 (43 U.S.C. 1761), being 15 feet wide by approximately 2,640 feet long, located in T 43 N., R. 37 E., Section 4: W½NW¼, running north-south adjacent to the section line common to Sections 4 and 5.

Those rights for ingress and egress purposes which have been granted to Humboldt County, Nevada, by Right-of-way #N-77234, North Valley Road #309, under the act of October 21, 1976, (43 U.S.C. 1761), being 30 feet wide by approximately 2,640 feet long, in T. 43 N., R. 37 E., Section 4: Lot 4, W½SW¼NW¼, running north-south adjacent to the section line common to Sections 4 and 5.

Parcel D: Those rights for power transmission line purposes which have been granted to Harney Electric Cooperative, Inc., by Right-of-way NEV-058382, under the Act of October 21, 1976 (43 U.S.C. 1761), being 40 feet wide by approximately 1,320 feet long, in T. 43 N., R. 37 E., Section 4: W½SW¼SW¼, running north-south adjacent to the section line common to Sections 4 and 5.

Those rights for power transmission line purposes granted to Harney Electric Cooperative, Inc., by Right-of-way NEV-058382, under the Act of October 21, 1976 (43 U.S.C. 1761), being 40 feet wide by approximately 5,280 feet long, located in T. 43 N., R. 37 E., Section 4: S½S½, running north-south adjacent to the section line common to Sections 4 and 5.

Those rights for a buried cable granted to Oregon Idaho Utilities, Inc., dba Humboldt Telephone Company by Right-of-way N-60463, under the Act of October 21, 1976 (43 U.S.C. 1761), being 15 feet wide by approximately 1,320 feet long, located in T. 43 N., R. 37 E., Section 4: W½SW¼SW¼, running north-south the length of the parcel adjacent to the section line common to Sections 4 and 5.

Those rights for ingress and egress purposes which have been granted to Humboldt County, Nevada, by Right-of-way #N-77234 North Valley Road #309, under the Act of October 21, 1976 (43 U.S.C. 1761), being 30 feet wide by approximately 1,320 feet long, located in T. 43 N., R. 37 E., Section 4: W½SW¼SW¼, running north-south adjacent to the section line common to Sections 4 and 5.

Those rights for ingress and egress purposes which have been granted to Humboldt County, Nevada, Right-of-way #N-77238, Home ranch Road #313, under the Act of October 21, 1976 (43 U.S.C. 1761), being 60 feet wide by approximately 750 feet long, located in T. 44 N., R. 37 E., Section 4: SW¼SW¼.

The purchaser(s), by accepting the land patent on parcels B, C, and D, agree to take the property subject to the current grazing lease, authorized under the Taylor Grazing Act, 43 U.S.C. 315f, Act of June 28, 1934. The two-year notification commenced on June 11, 2003. The two-year period of notification shall end on June 12, 2005. It has been determined that the subject parcels contain no mineral value. The parcels shall be sold with no reservation of mineral rights to the United States. Acceptance of a sale offer will constitute an application for conveyance of those mineral interests. The purchaser(s) will be required to pay a $50.00 non-refundable filing fee for conveyance of said mineral interests on each parcel when remitting final payment for the parcel(s).

The purchase price does not include the costs for publishing this NORA in the Federal Register. The purchaser(s) will be required to reimburse the BLM for all publishing costs of the NORA and for the newspaper notification.

Lands will not be offered for sale until at least July 27, 2004.

Protests: Until July 12, 2004, interested parties may submit comments regarding whether the BLM followed proper administrative procedures in reaching the decision or any other factor directly related to the suitability of the land for a competitive sale. Comments should be sent to Gene Seidlitz, Assistant Field Manager, Nonrenewable Resources, BLM Winnemucca Field Office, 5100 E. Winnemucca Blvd., Winnemucca, NV 89445. The Bureau of Land Management may accept or reject any or all offers, or withdraw any land or interest in the land from the sale, if, in the opinion of the Authorized Officer, consummation of the sale would not be fully consistent with FLPMA or other applicable laws or is determined to not be in the public interest. Any comments received during this process, as well as the commenter's name and address, will be available to the public in the administrative record and/or pursuant to a Freedom of Information Act request. You may indicate for the record that you do not wish to have your name and/or address made available to the public. Any determination by the Bureau of Land Management to release or withhold the names and/or addresses of those who comment will be made on a case-by-case basis. A commenter's request to have their name and/or address withheld from public release will be honored to the extent permissible by law following proper administrative procedures in reaching the decision or any other factor directly related to the suitability of the land for a competitive sale. BLM will not consider anonymous comments. The Environmental Assessment (EA) and Decision Record (DR) (NV-020-03-17) are available for review at the Winnemucca Field Office, and on the Winnemucca Field Office Internet address at: http://www.nv.blm.gov/winnemucca.

This Notice in the Federal Register allows the parcel to be re-offered for sale until the parcel has been sold at the discretion of the Authorized Officer. In the event a parcel is not sold, the parcel shall be automatically opened for entry without further notice, 270 (two hundred and seventy) days from the date of this publication.

Issued April 7, 2004.
Vicki L. Wood,
Winnemucca Associate Field Manager.

[FR Doc. 04-11725 Filed 5-27-04; 8:45 am]

BILLING CODE 4310-HC-P